NATIONAL SCIENCE FOUNDATION

Special Emphasis Panel in Physics; Notice of Meeting

In accordance with the Federal Advisory Committee Act (Pub. L. 92-463, as amended), the National Science Foundation announces the following meetings of the Special Emphasis Panel in Physics (1208):

Date/Time: December 5, 2000; 8 a.m.-6 p.m.

Place: Sate University of New York at Stony Brook.

Contact Person: Dr. Bradley D. Keister, Program Director for Nuclear, Division of Physics, National Science Foundation, 4201 Wilson Boulevard, Room 1015, Arlington, VA 22230. Telephone: (703) 292-7377,

Purpose of Meeting: To review the scientific program of the nuclear physics laboratory and experimental group at SUNY Stony Brook.

Date/Time: December 18-19, 2000; 8 a.m.-6 p.m.

Place: Indiana University Cyclotron Facility, Indiana University.

Contact Person: Dr. Bradley D. Keister, Program Director for Nuclear Physics, Division of Physics, National Science Foundation, 4201 Wilson Boulevard, Room 1015, Arlington, VA 22230. Telephone: (703) 292-7377.

Purpose of Meeting: To review the scientific program of the nuclear physics experimental group at Indiana University.

Date/Time: January 8-10, 2001; 8 a.m.-5:30 p.m.

Place: National Science Foundation, 4201 Wilson Blvd., Room 320, Arlington, VA.

Contact Person: Dr. Bradley D. Keister, Program Director for Nuclear Physics, Division of Physics, National Science Foundation, 4201 Wilson Boulevard, Room 1015, Arlington, VA 22230. Telephone: (703) 292-7377.

Purpose of Meeting: To provide advice and recommendations concerning proposals submitted to the Nuclear Physics Program for financial support.

Agenda: To review and evaluate proposals as part of the selection process for awards.

Reason for Closings: The proposals being reviewed include information of a proprietary or confidential nature, including technical information, financial data, such as salaries; and personal information concerning individuals associated with the proposals. These matters are exempt under 5 U.S.C. 552b(c), (4) and (6) of the Government in the Sunshine Act.

Dated: October 31, 2000.
Karen J. York,
Committee Management Officer.

[FR Doc. 00-28405 Filed 11-3-00; 8:45 am]

BILLING CODE 7555-01-M